DEPARTMENT OF TRANSPORTATION

Office of the Secretary

Notice of Applications for Certificates of Public Convenience and Necessity and Foreign Air Carrier Permits Filed Under Subpart B (Formerly Subpart Q) During the Week Ending August 9, 2002

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1997-2646.

Date Filed: August 9, 2002.

Due Date for Answers, Conforming Applications, or Motion to Modify Scope: August 30, 2002.

Description: Application of Florida West International Airways, Inc. (FWIA), pursuant to 49 U.S.C. 41102 and subpart B, requesting renewal of its certificate of public convenience and necessity, authorizing it to engage in the foreign air transportation of property and mail between the coterminal points Houston, Texas and Miami, Florida, on the one hand, and Lima and Iquitos, Peru, on the other hand, with beyond service to Santiago, Chile. FWIA also requests, that this authority be integrated with all other services it is otherwise authorized to conduct pursuant to its exemption and certificate authorities, consistent with applicable agreements between the U.S. and foreign countries.

Dorothy Y. Beard,
Federal Register Liaison.

[FR Doc. 02-21030 Filed 8-16-02; 8:45 am]

BILLING CODE 4910-62-P